DEPARTMENT OF COMMERCE

International Trade Administration

[C-570-953]

Narrow Woven Ribbons With Woven Selvedge From the People's Republic of China: Preliminary Results of Countervailing Duty Administrative Review; 2012

AGENCY: Enforcement and Compliance, International Trade Administration, Department of Commerce.

SUMMARY: The Department of Commerce (the Department) is conducting an administrative review of the countervailing duty order on narrow woven ribbons with woven selvedge (ribbons) from the People's Republic of China (PRC). The period of review (POR) is January 1, 2012, through December 31, 2012. We preliminarily find that Yangzhou Bestpak Gifts & Crafts Co., Ltd. (Bestpak) received countervailable subsidies during the POR. We invite interested parties to comment on these preliminary results.

DATES: Effective: June 25, 2014.

FOR FURTHER INFORMATION CONTACT: Christopher Siepmann, AD/CVD Operations, Office I, Enforcement and Compliance, International Trade Administration, U.S. Department of Commerce, 14th Street and Constitution Avenue NW., Washington, DC 20230; telephone: (202) 482-7958.

Scope of the Order

The scope of the order consists of ribbons. The merchandise subject to this order is classifiable under the Harmonized Tariff Schedule of the United States (HTSUS) statistical categories 5806.32.1020; 5806.32.1030; 5806.32.1050 and 5806.32.1060. Subject merchandise also may enter under subheadings 5806.31.00; 5806.32.20; 5806.39.20; 5806.39.30; 5808.90.00; 5810.91.00; 5810.99.90; 5903.90.10; 5903.90.25; 5907.00.60; and 5907.00.80 and under statistical categories 5806.32.1080; 5810.92.9080; 5903.90.3090; and 6307.90.9889. Although the HTSUS subheadings are provided for convenience and customs purposes, the written description, available in Narrow Woven Ribbons with Woven Selvedge from the People's Republic of China: Countervailing Duty Order, 75 FR 53642 (September 1, 2010), remains dispositive.

A full description of the scope of the order is contained in the memorandum from Christian Marsh, Deputy Assistant Secretary for Antidumping and Countervailing Duty Operations, to Ronald K. Lorentzen, Acting Assistant Secretary for Enforcement and Compliance, “Decision Memorandum for Preliminary Results of Countervailing Duty Administrative Review: Narrow Woven Ribbons with Woven Selvedge from the People's Republic of China,” dated concurrently with this notice (Preliminary Decision Memorandum), which is hereby adopted by this notice.

The Preliminary Decision Memorandum is a public document and is on file electronically via Enforcement and Compliance's Antidumping and Countervailing Duty Centralized Electronic Service System (IA ACCESS). IA ACCESS is available to registered users at http://iaaccess.trade.gov and in the Central Records Unit, Room 7046 of the main Department of Commerce building. In addition, a complete version of the Preliminary Decision Memorandum can be accessed directly on the internet at http://www.trade.gov/enforcement/. The signed Preliminary Decision Memorandum and the electronic versions of the Preliminary Decision Memorandum are identical in content.

Methodology

The Department conducted this review in accordance with section 751(a)(1)(A) of the Tariff Act of 1930, as amended (the Act). For each of the subsidy programs found countervailable, we preliminarily determine that there is a subsidy, i.e., a government-provided financial contribution by an “authority” that gives rise to a benefit to the recipient, and that the subsidy is specific.¹

¹ See sections 771(5)(B) and (D) of the Act regarding financial contribution; section 771(5)(E) of the Act regarding benefit; and section 771(5A) of the Act regarding specificity.

In making these findings, we relied on facts available and, because Bestpak and the Government of the PRC did not act to the best of their ability to respond to the Department's requests for information, we have drawn adverse inferences in selecting from among the facts otherwise available.² For further information, see “Use of Facts Otherwise Available and Adverse Inferences” in the Preliminary Decision Memorandum.

² See sections 776(a) and (b) of the Act.

For a full description of the methodology underlying our conclusions, see the Preliminary Decision Memorandum.

Preliminary Results of the Review

In accordance with 19 CFR 351.221(b)(4)(i), we calculated an individual subsidy rate for Bestpak for the period January 1, 2012, through December 31, 2012.

We preliminarily find that the net subsidy rate for Bestpak is as follows:

Producer/exporter | Net subsidy rate (percent)
Yangzhou Bestpak Gifts & Crafts Co., Ltd | 51.02

Disclosure and Public Comment

All calculations for the preliminary results of this review are contained in the Preliminary Decision Memorandum and have been thereby disclosed.³ Case briefs may be submitted to IA ACCESS by no later than 30 days after the day on which these preliminary results are published in the Federal Register.⁴ Rebuttal briefs, which must be limited to issues raised in case briefs, may be submitted by no later than five days after the deadline for case briefs.⁵ Parties who submit case briefs or rebuttal briefs in this proceeding should submit with each argument: (1) A statement of the issue; (2) a brief summary of the argument; and (3) a table of authorities.⁶ The summary should be limited to five pages total, including footnotes.

³ 19 CFR 351.224(b) calls for the Department to disclose calculations performed in connection with the preliminary results of an administrative review within five days after the publication of the preliminary results.

⁴ See 19 CFR 351.309(c)(1)(ii).

⁵ See 19 CFR 351.309(d).

⁶ See 19 CFR 351.309(c)(2) and (d)(2).

Interested parties who wish to request a hearing, or to participate if one is requested, must submit a written request to the Assistant Secretary for Enforcement and Compliance, U.S. Department of Commerce within 30 days after the date of publication of this notice.⁷ Requests should contain the party's name, address, and telephone number, the number of participants, and a list of the issues to be discussed. If a request for a hearing is made, the Department intends to hold the hearing at the U.S. Department of Commerce, 14th Street and Constitution Avenue NW., Washington, DC 20230, on a date and at a time and location to be determined. Parties will be notified of the date, time and location of any hearing.

⁷ See 19 CFR 351.310(c).

Parties are reminded that briefs and hearing requests must be filed electronically using IA ACCESS and that electronically filed documents must be received successfully in their entirety by 5 p.m. Eastern Time on the due date.

Unless the deadline is extended pursuant to section 751(a)(3)(A) of the Act, the Department will issue the final results of this administrative review, including our analysis of and responses to issues raised by the parties in their comments, within 120 days after issuing these preliminary results.

Assessment Rates

Consistent with section 751(a)(1) of the Act and 19 CFR 351.212(b)(2), upon issuance of the final results, the Department shall determine, and the U.S. Customs and Border Protection (CBP) shall assess, countervailing duties on all appropriate entries covered by this review. We intend to issue instructions to CBP 15 days after publication of the final results of this review.

Cash Deposit Requirements

If the final results of this review are the same as these preliminary results, the Department also intends to instruct CBP to collect cash deposits of estimated countervailing duties in the amount shown above for Bestpak. For all non-reviewed firms, we will instruct CBP to continue to collect cash deposits of estimated countervailing duties at the most recent company-specific or all-others rate applicable to the company. These cash deposit requirements, when imposed, shall remain in effect until further notice.

This administrative review and notice are in accordance with sections 751(a)(1) and 777(i) of the Act and 19 CFR 351.213.

Dated: June 18, 2014.
Ronald K. Lorentzen,
Acting Assistant Secretary for Enforcement and Compliance.

Appendix

List of Topics Discussed in the Preliminary Decision Memorandum

A. Background

B. Scope of the Order

C. Use of Facts Otherwise Available and Adverse Inferences

D. Supporting Information for AFA Findings

E. Subsidy Rate Chart

F. Disclosure and Public Comment

[FR Doc. 2014-14890 Filed 6-24-14; 8:45 am]

BILLING CODE 3510-DS-P